DEPARTMENT OF COMMERCE

Foreign-Trade Zones Board

[Docket T-4-2007]

Foreign-Trade Zone 38—Spartanburg County, SC, Application for Temporary/Interim Manufacturing Authority, ZF Lemforder Corporation (Automotive Suspension Systems), Duncan, SC

An application has been submitted to the Executive Secretary of the Foreign-Trade Zones Board (the Board) by the South Carolina State Ports Authority, grantee of FTZ 38, requesting temporary/interim manufacturing (T/IM) authority within FTZ 38 at the ZF Lemforder Corporation (Lemforder) facility in Duncan, South Carolina. The application was filed on September 26, 2007.

The Lemforder facility (71 employees) is located at 191 Parkway West in Duncan (Site 3). Under T/IM procedures, Lemforder would assemble up to 105,000 units of automotive suspension systems (HTSUS 8708.80) annually for the U.S. market and export. Foreign components that would be used in the assembly activity (up to 92% of total purchases) include: stoppers/lids/caps (HTSUS 3923.50), reinforced tubes/pipes/hoses (4009.42), articles of rubber (4016.99), fasteners (steel and aluminum) (7318.15, .16, .22, .24; 7616.10), helical and leaf springs (7320.20), cables and wires (7326.90), fittings (8302.30), check valves (8481.30), brake system parts 8708.30), suspension systems and related parts (8708.80), dampeners (8708.99) , height sensors (9031.80), wheel hubs (8708.99), drive shafts (8708.99), universal joints(8708.99), and ball bearings (8482.10) (duty rates: free 9.0%).

FTZ procedures could exempt Lemforder from customs duty payments on the foreign components used in production for export. On domestic shipments transferred in-bond to U.S. automobile assembly plants with subzone status, no duties would be paid on the foreign components within the automotive suspension systems until the finished vehicles are subsequently entered for consumption, at which time the finished automobile duty rate (2.5%) could be applied to the foreign components. For the finished automotive suspension systems withdrawn directly by Lemforder for CBP entry, the finished automotive part rate (2.5%) could be applied to the foreign inputs noted above.

Public comment is invited from interested parties. Submissions (original and 3 copies) shall be addressed to the Board's Executive Secretary at the following address: Office of the Executive Secretary, Room 2111, U.S. Department of Commerce, 1401 Constitution Avenue, NW, Washington, DC 20230-0002. For further information, contact Pierre Duy at pierre_duy@ita.doc.gov, or (202) 482-1378. The closing period for receipt of comments is November 2, 2007.

A copy of the application will be available for public inspection at the Office of the Foreign-Trade Zones Board's Executive Secretary at address listed above.

Dated: September 26, 2007.
Andrew McGilvray,
Executive Secretary.

[FR Doc. E7-19518 Filed 10-2-07; 8:45 am]

BILLING CODE 3510-DS-S